DEPARTMENT OF STATE

[Public Notice 6349]

Shipping Coordinating Committee; Notice of Subcommittee Meeting

The Shipping Coordinating Committee (SHC), through its Maritime Law Subcommittee, will conduct an open meeting at 11 a.m. on October 14, 2008, in Room 1422 of the United States Coast Guard Headquarters Building, 2100 2nd Street SW., Washington, DC, 20593. The purpose of this meeting is to prepare for the Ninety-fourth Session of the International Maritime Organization's (IMO) Legal Committee (LEG 94) scheduled from 20—24 October 2008 in London.

The provisional LEG 94 agenda calls for the Legal Committee to examine the Provision of financial security, which includes a progress report on the work of the Joint IMO/ILO Ad Hoc Expert Working Group on Liability and Compensation regarding claims for Death, Personal Injury and Abandonment of Seafarers. The Committee will also address monitoring the implementation of the International Convention on Liability and Compensation for Damage in Connection with the Carriage of Hazardous and Noxious Substances by Sea (HNS Convention) and development of a possible draft protocol to the Convention. Also on the provisional agenda are the Guidelines on fair treatment of seafarers in the event of a maritime accident, matters arising from the twenty-fourth extraordinary session of the Council, the twenty-fifth regular session of the Assembly, and the hundredth regular session of the Council, and election of officers. Finally, the Committee will review technical cooperation activities related to maritime legislation, and the status of Conventions and other treaty instruments adopted as a result of the work of the Legal Committee, in addition to allotting time to address any other issues that may arise on the Committee's work program.

Members of the public are invited to attend the SHC meeting up to the seating capacity of the room. To facilitate the building security process, those who plan to attend should call or send an e-mail two days before the meeting. Upon request, participating by phone may be an option. For further information please contact Captain Charles Michel or Lieutenant Amber Ward, at U.S. Coast Guard, Office of Maritime and International Law (CG-0941), 2100 Second Street, SW., Washington, DC 20593-0001; e-mail Amber.S.Ward@uscg.mil, telephone (202) 372-3794; fax (202) 372-3972.

Dated: September 9, 2008.
Mark Skolnicki,
Executive Secretary, Shipping Coordinating Committee, Department of State.

[FR Doc. E8-21476 Filed 9-12-08; 8:45 am]

BILLING CODE 4710-09-P